AGENCY FOR INTERNATIONAL DEVELOPMENT

Board for International Food and Agricultural Development; Notice of Meeting

Pursuant to the Federal Advisory Committee Act, notice is hereby given of the public meeting of the Board for International Food and Agricultural Development (BIFAD). The meeting will be held from 9:00 a.m. to 5:00 p.m. ET on Tuesday, May 8, 2018, at the Rotunda, Ronald Reagan Building and International Trade Center, 1300 Pennsylvania Ave. NW, Washington, DC. Participants may attend in person or join via livestream. The link to the global live stream as well as registration information can be found on BIFAD's home page: http://www.usaid.gov/bifad.

The central theme of this public meeting will be Building an Evidence Base on Rural Youth Employment and Livelihoods. Dr. Brady Deaton, Acting BIFAD Chair, will preside over the public business meeting, which will begin promptly at 9:00 a.m. ET with opening remarks. At this meeting, the Board will address old and new business and hear updates from USAID and the university community. The purpose of the meeting is to develop a shared understanding of rural labor markets and youth-specific constraints, discuss the evidence base on programs that aim to improve rural youth employment and livelihoods, outline cross-sectoral opportunities to support and empower youth to take advantage of agricultural system market opportunities, and identify knowledge gaps on which U.S. university research partners can generate evidence to address.

Following the opening remarks, the meeting will feature experts as well as panel discussions on the following topics:

• A Conceptual Framework on Youth and Agricultural Transformation;

• Framing the Evidence Base on Rural Youth Employment and Livelihoods;

• Youth Perspectives: Challenges and Opportunities in the Agricultural and Food Sectors;

• Youth Productivity: Technology, Mechanization, and Global Value Chains;

• Gender Considerations and Youth Employment;

• Research, Learning and USAID Programming: The Role of U.S. University Research Partners in Generating Evidence.

The meeting will be chaired by Dr. Brady Deaton, Acting BIFAD Chair and Chancellor Emeritus of the University of Missouri. Expert speakers include Dr. Louise Fox, USAID Chief Economist and Dr. David Tschirley, Food Security Group Co-Director, Michigan State University.

At 4:15 p.m. ET, Acting Chairman Deaton will moderate a half-hour public comment period. At 5:00 p.m., Dr. Deaton will make closing remarks and adjourn the public meeting.

Those wishing to attend the meeting or obtain additional information about BIFAD should contact Clara Cohen, Designated Federal Officer for BIFAD in the Bureau for Food Security at USAID. Interested persons may write to her in care of the U.S. Agency for International Development, Ronald Reagan Building, Bureau for Food Security, 1300 Pennsylvania Avenue NW, Washington, DC, 20523-2110 or telephone her at (202) 712-0119.

Clara Cohen,
Designated Federal Officer, BIFAD, Bureau for Food Security, U.S. Agency for International Development.

[FR Doc. 2018-07966 Filed 4-16-18; 8:45 am]

BILLING CODE P